Title 3—

The President

Proclamation 10207 of May 7, 2021

Mother's Day, 2021

By the President of the United States of America

A Proclamation

Each year on the second Sunday in May, we take time to thank and celebrate mothers across America—those who give us life and believe in us, so we can believe in ourselves. Throughout our history, even as they have nurtured and guided us, mothers have built, shaped, led, and sustained our Nation with selflessness and courage.

Like so many fellow Americans observing this day without their Moms with them, I will spend this Mother's Day missing my own mom, Catherine Eugenia “Jean” Finnegan Biden. She taught me about the importance of family, loyalty, and faith. Even now, I hear her voice reminding me that everyone is equal and that we are all defined by our sense of honor, duty, and courage. Her immeasurable strength lives on in all of her children, her grandchildren, her great-grandchildren, and the many other lives that she touched.

I will also spend this Mother's Day honoring the love of my life and the life of my love, Jill. In the many years of our marriage, she has healed our family, guided us through unimaginable hardships, and brought us untold joy and laughter. Her strength and determination have been our bedrock, and her warmth holds us all together.

Through their unconditional love, mothers shape our lives and help us become the people we hope to be. We especially thank the mothers who have led us through the COVID-19 pandemic. From the earliest days of this crisis, so many mothers across our country have worked essential jobs, borne the brunt of our caregiving crisis, and selflessly provided support and comfort in a time of anxiety and fear. For many families, mothers took on the full-time role of teacher and caregiver when our schools and child care facilities were closed or operating remotely. In fact, this year, millions of moms left the workforce or deferred their education in order to provide care. New mothers faced pregnancy and childbirth without family and friends to support them—exacerbating a preexisting maternal health crisis which disproportionately impacts Black and Native American families. On Mother's Day, we also honor those who have suffered the profound loss of the life of a child and those grappling with uncertainty in hopes of becoming mothers someday.

We also recognize that this will be the first Mother's Day for many families who lost their Mom due to COVID-19 and other diseases and cruel twists of fate of this past year. May God bless their memory and may this day fall gently on their loved ones left behind.

When we support mothers, we support the prosperity, security, and well-being of our entire Nation. That's why my Administration is committed to fighting for safe and equitable workplaces, addressing barriers women face at work, closing the gender wage and wealth gaps, and making quality child care affordable so parents can work, knowing their children are in good hands.

We've already begun this work through the American Rescue Plan's historic reductions in child poverty, ground-breaking investments in child care, and expanded support for families with children. Today, we are working to pass once-in-a-generation investments in our Nation's future through the American Jobs Plan and the American Families Plan. With these bills, we will modernize our schools, make it easier to care for aging loved-ones, create millions of good jobs, rebuild our country's infrastructure, and strengthen our economic competitiveness, so that all families have the opportunities they need to thrive.

Our Nation would not be where we are today without the foundations built by mothers. This Mother's Day, let us honor not only our own moms for their many contributions to our lives, but all mothers whose arms have cradled new generations and whose many gifts, unselfishly given, have blessed us all.

The Congress, by joint resolution approved May 8, 1914 (38 Stat. 770), has designated the second Sunday in May each year as “Mother's Day” and requested the President to call for its appropriate observance.

NOW, THEREFORE, I, JOSEPH R. BIDEN JR., President of the United States of America, by virtue of the authority vested in me by the Constitution and the laws of the United States, do hereby proclaim May 9, 2021, as Mother's Day. I urge all Americans to express their love, respect, and gratitude to mothers everywhere, including the figures in our lives who nurture, guide, and sacrifice for us in the ways that mothers do. I call upon all citizens to observe this day with appropriate programs, ceremonies, and activities.

IN WITNESS WHEREOF, I have hereunto set my hand this seventh day of May, in the year of our Lord two thousand twenty-one, and of the Independence of the United States of America the two hundred and forty-fifth.

[FR Doc. 2021-10215

Filed 5-11-21; 11:15 am]

Billing code 3295-F1-P